OFFICE OF PERSONNEL MANAGEMENT

Submission for Review: Representative Payee Application/Information Necessary for a Competency Determination

AGENCY: Office of Personnel Management.

ACTION: Emergency notice and request for comments.

SUMMARY: In accordance with the Paperwork Reduction of 1995, Retirement Services, Office of Personnel Management (OPM) is requesting the Office of Management and Budget (OMB) to conduct an emergency review of an existing information collection.

DATES: Comments are encouraged and will be accepted until November 1, 2021. Approval by the Office of Management and Budget (OMB) has been requested by November 1, 2021.

ADDRESSES: You may submit comments, identified by docket number and/or Regulatory Information Number (RIN) and title, by the following method:

—Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: A copy of this ICR with applicable supporting documentation, may be obtained by contacting the Retirement Services Publications Team, Office of Personnel Management, 1900 E Street NW, Room 3316-L, Washington, DC 20415, Attention: Cyrus S. Benson, or may be obtained by sending an email to Cyrus.Benson@opm.gov or by fax to (202) 606-0910 or via telephone at (202) 606-4808.

SUPPLEMENTARY INFORMATION: As required by the Paperwork Reduction Act of 1995, Public Law 104-13, 109 Stat. 163 (44 U.S.C. 35) as amended by the Clinger-Cohen Act of 1996, Public Law 104-106, 110 Stat. 642 (40 U.S.C. 1401 et seq.), OPM is soliciting comments for this collection (OMB No. 3206-0034). The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

OPM is publishing a final rule to create 5 CFR part 849—Representative Payees. Payments to individuals as representative payees has long been authorized by 5 U.S.C. 8345(e) and 8466(c). The Representative Payee Fraud Prevention Act of 2019, Public Law 116-126, 134 Stat. 174 (2020) (the “Act”), amended the statute to formally define a representative payee as “a person (including an organization) designated . . . to receive payments on behalf of a minor or an individual mentally incompetent or under other legal disability.” This Act also made it unlawful for representative payees to embezzle or misuse benefits and established the penalty for the misuse of payments by representative payees.

Congress ordered OPM to promulgate regulations to carry out the provisions of this Act. Promulgating these regulations requires OPM to amend both RI 20-7, Representative Payee Application, and RI 30-3, Information Necessary for a Competency Determination, so that the information required by the regulations is accurately collected. The changes in the forms reflect the regulatory requirements.

Analysis

Agency: Retirement Services, Office of Personnel Management.

Title: Representative Payee Application/Information Necessary for a Competency Determination.

OMB Number: 3206-0140.

Frequency: On occasion.

Affected Public: Individuals or Organizations.

Number of Respondents: 12,480 [RI 20-7] and 250 [RI 30-3].

Estimated Time per Respondent: 30 minutes [RI 20-7] and 1 hour [RI 30-3].

Total Burden Hours: 6,240 [RI 20-7] and 250 [RI 30-3].

Office of Personnel Management.
Alexys Stanley,
Regulatory Affairs Analyst.

[FR Doc. 2021-23353 Filed 10-26-21; 8:45 am]

BILLING CODE 6325-38-P